DEPARTMENT OF STATE

[Public Notice 5918]

Correction Request to Public Notice 5870

ACTION: Notice; correction.

SUMMARY: On July 31, 2007, Public Notice 5870 was published in the Federal Register (Volume 72, Number 146) pertaining to the grant announcement, “United States-Egypt Science and Technology Joint Board: Public Announcement of a Science and Technology Program for Competitive Grants to Support International, Collaborative Projects in Science and Technology Between U.S. and Egyptian Cooperators.” The referenced Notice is hereby corrected to include the grant application guidelines Web site: http://cairo.usembassy.gov/usegypt.htm, and address for Program Administrator in Cairo: Barbara Jones, Program Administrator, U.S.-Egypt Science and Technology Grants Program, USAID/Cairo, Unit 64902, APO AE 09839-4902; phone: 011-(20-2) 2522-6887; fax: 011 (20-2) 2522-7041; E-mail: bljones@usaid.gov.

FOR FURTHER INFORMATION CONTACT: Please contact Robert S. Senseney, Senior Advisor for Science Partnerships, Office of Science and Technology Cooperation, Bureau of Oceans, Environment and Science, U.S. Department of State and Chair, U.S.-Egypt S&T Joint Board at (202) 663-3246 or SenseneyRS@state.gov.

Dated: August 23, 2007.
Bruce Howard,
Director, Office of Science and Technology Cooperation, Department of State.

[FR Doc. E7-17121 Filed 8-28-07; 8:45 am]

BILLING CODE 4710-09-P